DEPARTMENT OF COMMERCE

International Trade Administration

Submission for OMB Review; Comment Request

The Department of Commerce will submit to the Office of Management and Budget (OMB) for clearance the following proposal for collection of information under the provisions of the Paperwork Reduction Act (44 U.S.C. Chapter 35).

Agency: International Trade Administration (ITA).

Title: Renewal of Information Collection for Self-Certification to the EU-U.S. and Swiss-U.S. Privacy Shield Frameworks.

OMB Control Number: 0625-0276.

Form Number(s): None.

Type of Request: Regular submission.

Number of Respondents: 5,100.

Average Hours per Response: 40 minutes.

Burden Hours: 3,412.

Needs and Uses: The United States, the European Union (EU), and Switzerland share the goal of enhancing privacy protection for their citizens but take different approaches to doing so. Given those differences, the Department of Commerce (DOC) developed the EU-U.S. and Swiss-U.S. Privacy Shield Frameworks (Privacy Shield) in consultation with the European Commission, the Swiss Administration, industry, and other stakeholders. Privacy Shield provides U.S. organizations a reliable mechanism for personal data transfers to the United States from the EU and Switzerland, while ensuring data protection that is consistent with EU and Swiss law.

The European Commission and Swiss Administration deemed the EU-U.S. Privacy Shield Framework and Swiss-U.S. Privacy Shield Framework adequate to enable data transfers under EU and Swiss law, respectively, on July 12, 2016 and on January 12, 2017. The DOC began accepting self-certification submissions for the EU-U.S. Privacy Shield on August 1, 2016, and for the Swiss-U.S. Privacy Shield on April 12, 2017. More information on the Privacy Shield is available at: https://www.privacyshield.gov/welcome.

The DOC issued the Privacy Shield Principles under its statutory authority to foster, promote, and develop international commerce (15 U.S.C. 1512). The International Trade Administration (ITA) administers and supervises the Privacy Shield, including maintaining and making publicly available an authoritative list of U.S. organizations that have self-certified to the DOC. U.S. organizations submit information to ITA to self-certify their compliance with Privacy Shield.

U.S. organizations considering self-certifying to the Privacy Shield should review the Privacy Shield Framework. In summary, to participate, an organization must (a) be subject to the investigatory and enforcement powers of the Federal Trade Commission, the Department of Transportation, or another statutory body that will effectively ensure compliance with the Principles; (b) publicly declare its commitment to comply with the Principles; (c) publicly disclose its privacy policies in line with the Principles; and (d) fully implement them.

Self-certification is voluntary; however, an organization's failure to comply with the Principles after its self-certification is enforceable under Section 5 of the Federal Trade Commission Act prohibiting unfair and deceptive acts in or affecting commerce (15 U.S.C. 45(a)) or other laws or regulations prohibiting such acts.

To rely on the Privacy Shield for transfers of personal data from the EU and/or Switzerland, an organization must self-certify its adherence to the Principles to the DOC, be placed on the Privacy Shield List, and remain on the Privacy Shield List. To self-certify for the Privacy Shield, an organization must provide to the DOC the information specified in the Privacy Shield Principles via the self-certification form.

ITA has committed to follow up with organizations that have been removed from the Privacy Shield List. ITA sends questionnaires to organizations that fail to complete the annual certification or that have withdrawn from the Privacy Shield to verify whether they will return, delete, or continue to apply the Principles to the personal information that they received while they participated in the Privacy Shield. If personal information will be retained, ITA asks organizations to verify who within the organization will serve as an ongoing point of contact for Privacy Shield-related questions.

In addition, ITA has committed to conduct compliance reviews on an ongoing basis, including through sending detailed questionnaires to participating organizations. Such compliance reviews take place when: (a) The DOC receives specific non-frivolous complaints about an organization's compliance with the Principles, (b) an organization does not respond satisfactorily to DOC inquiries for information relating to the Privacy Shield, or (c) there is credible evidence that an organization does not comply with its commitments under the Privacy Shield.

Affected Public: Primarily businesses or other for-profit organizations.

Frequency: Annual and periodic.

Respondent's Obligation: Voluntary.

This information collection request may be viewed at www.reginfo.gov. Follow the instructions to view the Department of Commerce collections currently under review by OMB.

Written comments and recommendations for the proposed information collection should be sent within 30 days of publication of this notice to OIRA Submission@omb.eop.gov or fax to (202) 975-5806.

Sheleen Dumas,
Department PRA Clearance Officer, Office of the Chief Information Officer, Commerce Department.

[FR Doc. 2020-04935 Filed 3-10-20; 8:45 am]

BILLING CODE 3510-DS-P